DEPARTMENT OF DEFENSE

Department of the Navy

[DOD-2006-OS-0074]

Privacy Act of 1974; System of Records

AGENCY: Department of the Navy, DOD.

ACTION: Notice to add systems of records.

SUMMARY: The Department of the Navy proposes to add a system of records to its inventory of record systems subject to the Privacy Act of 1974 (5 U.S.C. 552a), as amended.

DATES: The proposed action will be effective on June 5, 2006 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available: from the address above.

The proposed systems reports, as required by 5 U.S.C. 552a(r) of the Privacy Act, were submitted on April 28, 2006, to the House Committee on Govermment Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: May 1, 2006.
L.M. Bynum,
OSD Federal Register Liaison Officer, Department of Defense.

NM06150-6

System name:

Medical Readiness Reporting System (MRRS).

System Location:

Space and Naval Warfare Systems Center New Orleans (SSC NOLA), 2251 Lakeshore Drive, New Orleans, LA 70145-0001.

Categories of individuals covered by the system:

Active duty Marine Corps personnel, Navy Reserve, and Marine Corps Reserve personnel.

Categories of records in the system:

Name; Social Security Number (SSN); date of birth; unit assigned; demographic information; medical readiness data that includes information regarding labs, physicals, exams, immunizations (date and type), eyes/audio, dental readiness; and injury status.

Authority for maintenance of the system:

10 U.S.C. 5013, Secretary of the Navy, 10 U.S.C. 5041, Headquarters, Marine Corps; and E.O. 9397 (SSN).

Purpose(s):

The purpose of this system of records is to track medical readiness to ensure individuals are medically eligible to be deployed; to track lab, exams, physicals, and immunizations that impact medical readiness; and to provide immunization data to the Defense Enrollment Eligibility System (DEERS).

Routine uses of records maintained in the system, Including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” that appear at the beginning of the Navy's complication of system of record notices apply to this system.

Policies and practices for storing, retrieving, accessing, retaining, and disposing of records in the systems:

Storage:

Automated records are stored on magnetic tapes, disc, and drums. Manual records are stored in paper file folders, microfiche, or microfilm.

Retrievability:

Name and Social Security Number.

Safeguards:

Computer processing facilities and terminals are located in restricted areas accessible only to authorized persons that are properly screened, cleared, and trained. Manual records and computer printouts are available only to authorized personnel having a need-to-know.

Retention and disposal:

Permanent pending approval of disposal.

System manager(s) and address:

For Navy Reserves: Commander, Naval Reserve Force (CNRF), 4400 Dauphine Street, New Orleans, LA 70146-5046.

For Marine Corps Reserves: Commander, Marine Corps Force Reserve Command (MARFORRES), 4400 Dauphine Street, New Orleans, LA 70146-5400.

For Marine Corps Active Duty: Commandant of the Marine Corps, Headquarters U.S. Marine Corps, PPO, PLN (National Plans Branch), 3000 Marine Corps Pentagon, Washington, DC 20350-3000.

Notification procedure:

Individuals seeking to determine whether this system of records contains information about themselves should address written inquiries to the appropriate systems manager listed above.

The signed letter should contain full name and Social Security Number.

Record access procedures:

Individuals seeking access to records about themselves contained in this system of records should address written inquiries to the appropriate systems manager listed above.

The signed letter should contain full name and Social Security Number.

Contesting record procedures:

The Navy's rules for accessing records, and for contesting contents and appealing initial agency determinations are published in Secretary of the Navy Instruction 5211.5; 32 CFR part 701; or may be obtained from the system manager.

Record source categories:

Individual; their medical records; military personnel records; care giver; testing data; dental information; physical readiness records, and Defense Manpower Data Center (DMDC).

Exemptions claimed for the system:

None.

[FR Doc. 06-4249 Filed 5-4-06; 8:45 am]

BILLING CODE 5001-06-M